DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: NIST Generic Clearance for Community Resilience Data Collections.

OMB Control Number: 0693-XXXX (New collection).

Form Number(s): None.

Type of Request: Regular submission.

Number of Respondents: 5,000.

Average Hours per Response: Varied, dependent upon the data collection method used. The possible response time to complete a questionnaire may be 15 minutes or 2 hours to participate in an interview. The overall average response time is expected to be 30 minutes.

Burden Hours: 5,625.

Needs and Uses: In accordance with Executive Order 12862, the National Institute of Standards and Technology (NIST), a non-regulatory agency of the Department of Commerce (DOC), proposes to conduct a number of surveys both quantitative and qualitative-designed to evaluate our current program evaluation data collections by means of, but not limited to, focus groups, reply cards that accompany product distributions, and Web-based surveys and dialogue boxes that offer customers an opportunity to express their views on the programs they are asked to evaluate. NIST will limit its inquires to data collections that solicit strictly voluntary opinions and will not collect information that is required or regulated. Steps will be taken to assure anonymity covered under this request.

Affected Public: Business or other for profit organizations, not-for-profit institutions, individuals or households, Federal government, State, Local or Tribal Governments.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 11, 2016.
Glenna Mickelson,
Management Analyst, Office of the Chief Information Officer.

[FR Doc. 2016-11442 Filed 5-13-16; 8:45 am]

BILLING CODE 3510-13-P